DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Patton Mining, LLC.

DATES: All comments on the petition must be received by MSHA's Office of Standards, Regulations, and Variances on or before August 14, 2025.

ADDRESSES: You may submit comments identified by Docket No. MSHA-2025-0068 by any of the following methods:

1. Federal eRulemaking Portal: https://www.regulations.gov. Follow the instructions for submitting comments for MSHA-2025-0068.

2. Fax: 202-693-9441.

3. Email: petitioncomments@dol.gov.

4. Regular Mail or Hand Delivery: MSHA, Office of Standards, Regulations, and Variances, Room C3522, 200 Constitution Ave. NW, Washington, DC 20210.

Attention: Jessica D. Senk, Acting Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: Jessica D. Senk, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-048-C.

Petitioner: Patton Mining, LLC, P.O. Box 457, Hillsboro, Illinois 62049.

Mine: Deer Run Mine, MSHA ID No. 11-03182, located in Montgomery County, Illinois.

Regulation Affected: 30 CFR 18.35(a)(5)(i), Portable (trailing) cables and cords.

Modification Request: The petitioner requests a modification of 30 CFR 18.35(a)(5)(i) to increase the maximum length of trailing cables supplying power to permissible equipment used in continuous mining sections.

The petitioner states that:

(a) Increasing the length of the cables supplying power to the shuttle cars will reduce the frequency that a section power center must be advanced and lessen handling of the cable.

(b) The modification will decrease the opportunities for cable damage and minimize exposure to the miners handling the cable.

The petitioner proposes the following alternative method:

(a) The petition shall apply only to trailing cables supplying three-phase, 995-volt power to shuttle cars.

(b) The maximum length of the 995-volt shuttle car trailing cables shall be 950 feet.

(c) The 995-volt shuttle car trailing cables shall not be smaller than #2 A WG.

(d) A Schweitzer Engineering Laboratories 75 lA (“SEL-75 lA”) overcurrent protection relay shall be used and a designated official of Patton Mining, LLC shall manage the password protected settings.

(e) All circuit breakers used to protect #2 AWG trailing cables exceeding 700 feet in length shall have instantaneous trip units set to trip at 800 amperes. The trip setting of these circuit breakers shall be password protected, and these circuit breakers shall have permanent, legible labels. Each label shall identify the circuit breaker as being suitable for protecting #2 AWG cables. This label shall be maintained legible.

(f) Replacement instantaneous trip units, used to protect #2 AWG trailing cables, shall be set to trip at 800 amperes and this setting shall be password protected.

(g) During each production day, persons designated by the operator shall visually examine the trailing cables to ensure the cables are in safe operating condition.

(h) Any trailing cable that is not in safe operating condition shall be removed from service immediately and repaired or replaced.

(i) Each splice or repair in the trailing cables shall be made in a workmanlike manner and in accordance with the instructions of the manufacturer of the splice or repair materials. The splice or repair shall comply with 30 CFR 75.603 and 75.604.

(j) Permanent warning labels shall be installed and maintained on the cover(s) of the power center identifying the location of each password protected short-circuit protection device. These labels shall warn miners not to change or alter these short-circuit settings.

(k) The alternative method shall not be implemented until miners designated to examine the integrity of the settings, verify the short-circuit settings, and examine trailing cables for defects and damage have received the training specified herein.

(l) Within 60 days after the Proposed Decision and Order is granted by MSHA, the petitioner shall submit proposed revisions for their approved 30 CFR part 48 training plans to the District Manager for the area in which the mine is located. The training shall include the following elements:

(1) Training in mining methods and operating procedures that will protect the trailing cables against damage;

(2) Training in the proper procedures for examining the trailing cables to ensure the cables are in safe operating condition;

(3) Training in hazards of setting the instantaneous circuit breakers too high to adequately protect the trailing cables; and

(4) Training in how to verify the circuit interrupting device(s) protecting the trailing cable(s) is properly set and maintained.

There is no representative of miners at the Deer Run Mine. A copy of the petition for modification was posted on the mine bulletin board on May 12, 2025.

The petitioner asserts that the alternative method proposed will at all times guarantee no less than the same measure of protection afforded to the miners under the mandatory standard.

Jessica D. Senk,
Acting Director, Office of Standards, Regulations, and Variances.

[FR Doc. 2025-13188 Filed 7-14-25; 8:45 am]

BILLING CODE 4520-43-P